DEPARTMENT OF TRANSPORTATION

Federal Highway Administration

Notice of Final Federal Agency Actions on Proposed Highway Project in Rhode Island

AGENCY: Federal Highway Administration (FHWA), Department of Transportation (DOT).

ACTION: Notice of Limitation on Claims for Judicial Review of Actions by FHWA.

SUMMARY: This notice announces actions taken by the FHWA that are final pursuant to the statute. The actions relate to a proposed highway project, Toll Locations 1 and 2 in the Towns of Hopkinton, Richmond, and Exeter in the State of Rhode Island, FHWA Project Number T0LL002, Rhode Island Department of Transportation (RIDOT) Contract Number 2017-OT-002.

DATES: By this notice, the FHWA is advising the public of final agency actions subject to 23 U.S.C. 139(l)(1). A claim seeking judicial review of the Federal agency actions on the highway project will be barred unless the claim is filed on or before June 18, 2018. If the Federal law that authorizes judicial review of a claim provides a time period of less than 150 days for filing such claim, then that shorter time period still applies.

FOR FURTHER INFORMATION CONTACT: For FHWA: Mr. Carlos E. Padilla-Fresse, MSCE, Program Delivery Supervisor, Federal Highway Administration Rhode Island Division, 380 Westminster Mall, Suite 601, Providence, Rhode Island 02903: telephone: (401) 528-4577; email: Carlos.Padilla@dot.gov. The FHWA Rhode Island Division Office's normal business hours are 8:00 a.m. to 4:30 p.m. (Eastern Standard Time), Monday through Friday, except Federal Holidays. For RIDOT: Mr. David Fish, P.E., Administrator of Project Management, Rhode Island Department of Transportation, Two Capitol Hill, Providence, Rhode Island 02903-1124, telephone: (401) 222-2023, email: david.fish@dot.ri.gov. RIDOT normal business hours are 8:00 a.m. to 4:30 p.m. (Eastern Standard Time), Monday through Friday, except Federal Holidays.

SUPPLEMENTARY INFORMATION: Effective December 20, 2017, the Federal Highway Administration (FHWA) assumed environmental responsibilities for this project pursuant to 23 U.S.C 327. Notice is hereby given that the FHWA has taken final agency actions subject to 23 U.S.C. 139(l)(1) by issuing a Finding of No Significant Impact (FONSI) for the following highway project in the State of Rhode Island: Toll Locations 1 and 2 in the Towns of Hopkinton, Richmond, and Exeter. RIDOT proposes to construct and operate electronic toll systems at two locations (Toll Location 1—between Exits 2 and 3, and Location 2—between Exits 4 and 5) along Interstate 95 in the southwestern part of Rhode Island (Proposed Action). Revenue from Toll Locations 1 and 2 would be generated and used in accordance with The Rhode Island Bridge Replacement, Reconstruction and Maintenance Fund Act of 2016. The proposed toll systems would be used to collect toll revenue from a tractor or truck tractor as defined in 23 CFR 658.5, pulling a trailer or trailers traveling across select bridges associated with the toll locations. Each toll system would be comprised of one or more gantries with communication and electrical connections, a roadside cabinet on a concrete pad, and additional safety guardrail.

The actions by the FHWA, and the laws under which such actions were taken, are described in the Environmental Assessment (EA) for the project approved on December 15, 2017, and a Finding of No Significant Impact (FONSI) issued on December 20, 2017. The EA, FONSI, and other project records are available by contacting the FHWA or the Rhode Island Department of Transportation at the addresses provided above. The EA and FONSI can be viewed and downloaded from the project website at http://www.dot.ri.gov/rhodeworks/.

This notice applies to all Federal agency decisions as of the issuance date of this notice and all laws under which such actions were taken, including but not limited to:

1. General: National Environmental Policy Act (NEPA) [42 U.S.C. 4321-4370h]; Federal-Aid Highway Act [Title 23] and associated regulations [CFR part 23].

2. Hazardous Materials: Comprehensive Environmental Response, Compensation, and Liability Act [42 U.S.C. 9601-9675]; Superfund Amendments and Reauthorization Act of 1986 [Pub. L. 99-499]; Resource Conservation and Recovery Act [42 U.S.C. 6901-6992(k)].

3. Air: Clean Air Act, [42 U.S.C. 7401-7671(q)](transportation conformity); Intermodal Surface Transportation Efficiency Act of 1991, Congestion Mitigation and Air Quality Improvement Program (Sec 1008 U.S.C. 149).

4. Noise: 23 U.S.C. 109(i) (Pub. L. 91-605) (Pub. L. 93-87).

5. Wildlife: Endangered Species Act [16 U.S.C. 1531-1544]; Fish and Wildlife Coordination Act [16 U.S.C. 661-667(e)]; Migratory Bird Treaty Act [16 U.S.C. 703-712]. Plant Protection Act [7 U.S.C. 7701 et seq.].

6. Historic and Cultural Resources: Section 106 of the National Historic Preservation Act of 1966, [54 U.S.C. 306108]; Archeological Resources Protection Act of 1977 [16 U.S.C. 470(aa)-470(mm)]; Archeological and Historic Preservation Act [16 U.S.C. 469-469 c-2]; Native American Grave Protection and Repatriation Act [25 U.S.C. 3001-3013].

7. Land: Section 4(f) of The Department of Transportation Act: [49 U.S.C. 303] Farmland Protection Policy Act (FPPA) [7 U.S.C. 4201-4209]. Solid Waste Disposal Act, as amended by the Resource Conservation and Recovery Act of 1976 (42 U.S.C. 6901, et seq.).

8. Social and Economic: Civil Rights Act of 1964 [42 U.S.C. 2000(d)-2000(d)(1)]; Uniform Relocation Assistance and Real Property Acquisition Act [42 U.S.C. 61].

9. Wetlands and Water Resources: Clean Water Act [33 U.S.C 1251-1387(Sections 319, 401, and 404)]; Flood Disaster Protection Act (42 U.S.C. 4012a 4106).

10. Executive Orders: E.O. 11990 Protection of Wetlands; E.O. 12898, Federal Actions to Address Environmental Justice in Minority Populations and Low Income Populations; E.O. 11514 Protection and Enhancement of Environmental Quality; E.O. 11988 Floodplain Management; E.O. 11593 Protection and Enhancement of Cultural Resources; E.O. 13007 Indian Sacred Sites; E.O. 13287 Preserve America; E.O. 13175 Consultation and Coordination with Indian Tribal Governments; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: January 9, 2018.
Barbara Breslin,
FHWA Rhode Island Division Second in Line, Providence, Rhode Island.

[FR Doc. 2018-00665 Filed 1-18-18; 8:45 am]

BILLING CODE 4910-22-P